DEPARTMENT OF TRANSPORTATION

National Highway Traffic Safety Administration

[Docket No. NHTSA-2003-16356]

Notice of Receipt of Petition for Decision That Nonconforming 2002 and 2003 Ferrari 575 Passenger Cars Are Eligible for Importation

AGENCY: National Highway Traffic Safety Administration, DOT.

ACTION: Notice of receipt of petition for decision that nonconforming 2002 and 2003 Ferrari 575 passenger cars are eligible for importation.

SUMMARY: This document announces receipt by the National Highway Traffic Safety Administration (NHTSA) of a petition for a decision that 2002 and 2003 Ferrari 575 passenger cars that were not originally manufactured to comply with all applicable Federal motor vehicle safety standards are eligible for importation into the United States because (1) they are substantially similar to vehicles that were originally manufactured for importation into and sale in the United States and that were certified by their manufacturer as complying with the safety standards, and (2) they are capable of being readily altered to conform to the standards.

DATES: The closing date for comments on the petition is November 28, 2003.

ADDRESSES: Comments should refer to the docket number and notice number, and be submitted to: Docket Management, Room PL-401, 400 Seventh St., SW., Washington, DC 20590. [Docket hours are from 9 am to 5 pm]. Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

FOR FURTHER INFORMATION CONTACT: (Coleman Sachs, Office of Vehicle Safety Compliance, NHTSA 202-366-3151).

SUPPLEMENTARY INFORMATION:

Background

Under 49 U.S.C. 30141(a)(1)(A), a motor vehicle that was not originally manufactured to conform to all applicable Federal motor vehicle safety standards shall be refused admission into the United States unless NHTSA has decided that the motor vehicle is substantially similar to a motor vehicle originally manufactured for importation into and sale in the United States, certified under 49 U.S.C. 30115, and of the same model year as the model of the motor vehicle to be compared, and is capable of being readily altered to conform to all applicable Federal motor vehicle safety standards.

Petitions for eligibility decisions may be submitted by either manufacturers or importers who have registered with NHTSA pursuant to 49 CFR part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

G&K Automotive Conversion, Inc. of Santa Ana, California (“G&K”) (Registered Importer 90-007) has petitioned NHTSA to decide whether 2002 and 2003 Ferrari 575 passenger cars are eligible for importation into the United States. The vehicles which G&K believes are substantially similar are 2002 and 2003 Ferrari 575 passenger cars that were manufactured for importation into, and sale in, the United States and certified by their manufacturer as conforming to all applicable Federal motor vehicle safety standards.

The petitioner claims that it carefully compared non-U.S. certified 2002 and 2003 Ferrari 575 passenger cars to their U.S.-certified counterparts, and found the vehicles to be substantially similar with respect to compliance with most Federal motor vehicle safety standards.

G&K submitted information with its petition intended to demonstrate that non-U.S. certified 2002 and 2003 Ferrari 575 passenger cars, as originally manufactured, conform to many Federal motor vehicle safety standards in the same manner as their U.S. certified counterparts, or are capable of being readily altered to conform to those standards.

Specifically, the petitioner claims that non-U.S. certified 2002 and 2003 Ferrari 575 passenger cars are identical to their U.S. certified counterparts with respect to compliance with Standard Nos. 102 Transmission Shift Lever Sequence, 103 Defrosting and Defogging Systems, 104 Windshield Wiping and Washing Systems, 106 Brake Hoses, 109 New Pneumatic Tires, 113 Hood Latch Systems, 116 Brake Fluid, 118 Power Window Systems, 124 Accelerator Control Systems, 135 Passenger Car Brake Systems, 201 Occupant Protection in Interior Impact, 202 Head Restraints, 204 Steering Control Rearward Displacement, 205 Glazing Materials, 206 Door Locks and Door Retention Components, 207 Seating Systems, 210 Seat Belt Assembly Anchorages, 212 Windshield Retention, 214 Side Impact Protection, 216 Roof Crush Resistance, 219 Windshield Zone Intrusion, and 302 Flammability of Interior Materials.

Petitioner also contends that the vehicles are capable of being readily altered to meet the following standards, in the manner indicated:

Standard No. 101 Controls and Displays: (a) Substitution of the word “Brake” for the ECE warning symbol as the marking for the brake failure indicator lamp; (b) modification of the speedometer to read in miles per hour. The petitioner states that the instrument cluster will be modified by installing U.S.-version software information which will result in the seat belt warning symbol and other warning emblems reading appropriately in English.

Standard No. 108 Lamps, Reflective Devices and Associated Equipment: (a) installation of U.S.-model front and rear sidemarker assemblies; (b) modification of the tail lamp assembly wiring (by welding the circuit in the tail lamp assembly) so that the tail lamps will operate in the same manner as those on the vehicle's U.S.-certified counterpart.

Standard No. 110 Tire Selection and Rims: installation of a tire information placard.

Standard No. 111 Rearview Mirror: inscription of the required warning statement on the face of the passenger side rearview mirror.

Standard No. 114 Theft Protection: downloading of U.S.-version software information so that the vehicle complies with the standard.

Standard No. 208 Occupant Crash Protection: inspection of all vehicles and replacement of any passive restraint system components that are not identical to the U.S.-model components with U.S.-model components. The petitioner states that the non-U.S. certified comparison vehicle is equipped with seatbelts that are not identical to the U.S.-model vehicle.

Standard No. 209 Seat Belt Assemblies: inspection of all vehicles and replacement of any seat belts, air bags, knee bolsters, crash sensors, and air bag control units with U.S.-model components on vehicles that are not already so equipped. The petitioner states that the vehicles should be equipped with automatic restraint system components that are identical to those found on the vehicles' U.S. certified counterparts, and with combination lap and shoulder belts that are self-tensioning and are released by means of a single red push button.

Standard No. 225 Child Restraint Anchorage Systems: installation of U.S.-model tether anchorages.

Standard No. 301 Fuel System Integrity: replacement of the complete vent pipe, disareator, fuel tank connecting pipe, and pipe for vapor recycling with U.S.-model components.

Standard No. 401 Interior Trunk Release: installation of compliant interior trunk release components, including an inner hood unlocking device, a safety handle for use by persons trapped within the trunk compartment, a cable for the handle, as well as connection hardware, a dowel and a clip.

Petitioner states that front and rear bumper bracket components will have to be replaced with U.S. model components for the vehicles to comply with the Bumper Standard found in 49 CFR part 581. Petitioner identified the components requiring replacement as including left- and right-hand brackets and supports, as well as a pad and plate for the front bumper, and left- and right-hand brackets, as well as a plate, pad, bumper fixing plate, and rivet for the rear bumper.

The petitioner states that all vehicles will be inspected prior to importation to ensure that all required anti-theft devices identical to those found on the vehicles' U.S. certified counterparts are installed. Any modifications necessary to achieve compliance with the Theft Prevention Standard found at 49 CFR part 541 will be made at that time.

In addition, the petitioner states that a vehicle identification number (VIN) plate must be affixed to the vehicles so that it is readable from outside the driver's windshield pillar and a VIN reference label must be affixed to the edge of the driver's door or to the latch post nearest the driver in order to meet the VIN requirements of 49 CFR part 565.

Lastly, the petitioner states that a certification label will be affixed to the driver's side doorjamb to meet the requirements of the vehicle certification regulations in 49 CFR part 567.

Interested persons are invited to submit comments on the petition described above. Comments should refer to the docket number and be submitted to: Docket Management, Room PL-401, 400 Seventh St., SW., Washington, DC 20590. [Docket hours are from 9 am to 5 pm]. It is requested but not required that 10 copies be submitted.

All comments received before the close of business on the closing date indicated above will be considered, and will be available for examination in the docket at the above address both before and after that date. To the extent possible, comments filed after the closing date will also be considered. Notice of final action on the petition will be published in the Federal Register pursuant to the authority indicated below.

Authority: 49 U.S.C. 30141(a)(1)(A) and (b)(1); 49 CFR 593.8; delegations of authority at 49 CFR 1.50 and 501.8.

Issued on: October 23, 2003.
Kenneth N. Weinstein,
Associate Administrator for Enforcement.

[FR Doc. 03-27129 Filed 10-27-03; 8:45 am]

BILLING CODE 4910-59-P